DEPARTMENT OF ENERGY

Federal Energy Regulatory Commission

[Docket No. CP17-458-000]

Midship Pipeline Company, LLC Notice of Availability of the Draft Environmental Impact Statement for the Proposed Midcontinent Supply Header Interstate Pipeline Project

The staff of the Federal Energy Regulatory Commission (FERC or Commission) has prepared a draft environmental impact statement (EIS) for the Midcontinent Supply Header Interstate Pipeline Project, proposed by Midship Pipeline Company, LLC (Midship Pipeline) in the above-referenced docket. Midship Pipeline requests authorization to construct and operate approximately 233.6 miles of new pipeline, three compressor stations, a booster station, and accompanying facilities that would deliver an additional 1.44 billion standard cubic feet per day of year-round firm transportation capacity from Kingfisher County, Oklahoma to existing natural gas pipelines near Bennington, Oklahoma for transport to growing Gulf Coast and Southeast Markets.

The draft EIS assesses the potential environmental effects of the construction and operation of the project in accordance with the requirements of the National Environmental Policy Act. The FERC staff concludes that approval of the project would result in some adverse environmental impacts; however, these impacts would be reduced to less-than-significant levels with the implementation of Midship Pipeline's proposed mitigation and the additional measures recommended in the draft EIS.

The U.S. Environmental Protection Agency participated as a cooperating agency in the preparation of the EIS. Cooperating agencies have jurisdiction by law or special expertise with respect to resources potentially affected by the proposal and participate in the National Environmental Policy Act analysis. The U.S. Environmental Protection Agency provided input to the conclusions and recommendations presented in the draft EIS.

The draft EIS addresses the potential environmental effects of the construction and operation of the following proposed project facilities in Oklahoma:

• 199.6 miles of new 36-inch-diameter natural gas pipeline in Kingfisher, Canadian, Grady, Garvin, Stephens, Carter, Johnston, and Bryan Counties;

• 20.4 miles of new 30-inch-diameter pipeline lateral in Kingfisher County;

• 13.6 miles of 16-inch-diameter pipeline lateral in Stephens, Carter, and Garvin Counties;

• three new compressor stations and one new booster station in Canadian, Garvin, Bryan, and Stephens Counties; and

• seven new receipt meters, two new receipt taps, four new delivery meters, and appurtenant facilities.

Distribution and Comments on the Draft Environmental Impact Statement

The FERC staff mailed copies of the draft EIS to federal, state, and local government representatives and agencies; elected officials; environmental and public interest groups; Native American tribes; potentially affected landowners and other interested individuals and groups; and newspapers and libraries in the project area. Paper copy versions of this draft EIS were mailed to those specifically requesting them; all others received a CD version. In addition, the draft EIS is available for public viewing on the FERC's website (www.ferc.gov) using the eLibrary link. A limited number of copies are available for distribution and public inspection at: Federal Energy Regulatory Commission, Public Reference Room, 888 First Street NE, Room 2A, Washington, DC 20426, (202) 502-8371.

Any person wishing to comment on the draft EIS may do so. To ensure consideration of your comments on the proposal in the final EIS, it is important that the Commission receive your comments on or before April 2, 2018.

For your convenience, there are four methods you can use to submit your comments to the Commission. The Commission will provide equal consideration to all comments received, whether filed in written form or provided verbally. The Commission encourages electronic filing of comments and has expert staff available to assist you at (202) 502-8258 or FercOnlineSupport@ferc.gov. Please carefully follow these instructions so that your comments are properly recorded.

(1) You can file your comments electronically using the eComment feature on the Commission's website (www.ferc.gov) under the link to Documents and Filings. This is an easy method for submitting brief, text-only comments on a project.

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address. Be sure to reference the project docket number (CP17-458-000) with your submission: Kimberly D. Bose, Secretary, Federal Energy Regulatory Commission, 888 First Street NE, Room 1A, Washington, DC 20426.

4) In lieu of sending written or electronic comments, the Commission invites you to attend one of the public comment sessions its staff will conduct in the project area to receive comments on the draft EIS, scheduled as follows:

Date and time | Location
March 12, 2018, 4:00-8:00 pm | Donald W. Reynolds Community Center, 1515 W. Main Street, Durant, OK 74701, (580) 924-3486.
March 13, 2018, 4:00-8:00 pm | Ardmore Convention Center, 2401 N. Rockford Road, Ardmore, OK 73401, (580) 226-2862.
March 14, 2018, 4:00-8:00 pm | Elmore City Community Center, 104 S. Main Street, Elmore City, OK 73433, (580) 788-2345.
March 15, 2018, 4:00-8:00 pm | Redlands Community College, 1300 S. Country Club Road, El Reno, OK 73036, (405) 262-2552.

There will not be a formal presentation by Commission staff at any of the public comment sessions, although a format outline handout will be made available. Each comment sessions is scheduled from 4:00 p.m. to 8:00 p.m. (central time zone). If you wish to speak, the Commission staff will hand out numbers in the order of your arrival; distribution of numbers will be discontinued at 7:00 p.m. However, if no additional numbers have been handed out and all individuals who wish to provide comments have had an opportunity to do so, staff may conclude the session at 7:00 p.m.

The primary goal of the public comment sessions is to have you identify the specific environmental issues and concerns with the draft EIS. Individual verbal comments will be recorded on a one-on-one basis with a Court Reporter (with FERC staff or representative present) and become part of the public record for this proceeding. If a significant number of people are interested in providing verbal comments in the one-on-one settings, a time limit of 5 minutes may be implemented for each commentor. Transcripts of all comments from the sessions will be placed into the docket for the project, which are accessible for public viewing on the FERC's website (at www.ferc.gov) through our eLibrary system. This format is designed to receive the maximum amount of verbal comments, in a convenient way during the timeframe allotted.

Commission staff will be available at each venue of the public sessions to answer questions about our environmental review process. It is important to note that written comments mailed to the Commission and those submitted electronically are reviewed by staff with the same scrutiny and consideration as the verbal comments given at the public sessions.

Any person seeking to become a party to the proceeding must file a motion to intervene pursuant to Rule 214 of the Commission's Rules of Practice and Procedures (Title 18 of the Code of Federal Regulations, Part 385.214).¹ Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

¹ See the previous discussion on the methods for filing comments.

Questions

Additional information about the project is available from the Commission's Office of External Affairs, at (866) 208-FERC, or on the FERC website (www.ferc.gov) using the eLibrary link. Click on the eLibrary link, click on “General Search,” and enter the docket number excluding the last three digits in the Docket Number field (i.e., CP17-458). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: February 9, 2018.
Kimberly D. Bose,
Secretary.

[FR Doc. 2018-03203 Filed 2-15-18; 8:45 am]

BILLING CODE 6717-01-P